DEPARTMENT OF COMMERCE

International Trade Administration

A-570-924, A-351-841, A-549-825

Postponement of Final Determinations of Antidumping Duty Investigations: Polyethylene Terephthalate Film, Sheet, and Strip from the People’s Republic of China, Brazil, and Thailand

AGENCY: Import Administration, International Trade Administration, Department of

Commerce

EFFECTIVE DATE: June 5, 2008.

FOR FURTHER INFORMATION CONTACT: Erin Begnal or Toni Dach for the People’s Republic of China, Mike Heaney for Brazil, and Stephen Bailey for Thailand, Import Administration, International Trade Administration, U.S. Department of Commerce, 14th Street and Constitution Avenue, NW, Washington, DC 20230; telephone: (202) 482-1442, (202) 482-1655, (202) 482-4475, and (202) 482-0193, respectively.

SUPPLEMENTARY INFORMATION:

Postponement of Final Determination

On October 18, 2007, the Department of Commerce (“Department”) initiated the antidumping duty investigations of polyethylene terephthalate film, sheet, and strip (“PET Film”) from the People’s Republic of China (“PRC”), Brazil, Thailand, and the United Arab Emirates (“UAE”). See Polyethylene Terephthalate Film, Sheet, and Strip (PET Film) from Brazil, the People's Republic of China, Thailand, and the United Arab Emirates: Initiation of Antidumping Duty Investigations, 72 FR 60801 (October 26, 2007) (“Initiation Notice”). On May 5, 2008, the Department published the Preliminary Determinations in the antidumping duty investigations of PET Film from the PRC, Brazil, and Thailand.¹ See Polyethylene Terephthalate Film, Sheet, and Strip from the People’s Republic of China: Preliminary Determination of Sales at Less Than Fair Value, 73 FR 24552 (May 5, 2008), Notice of Preliminary Determination of Sales at Less Than Fair Value: Polyethylene Terephthalate Film, Sheet, and Strip from Brazil, 73 FR 24560 (May 5, 2008), and Notice of Preliminary Determination of Sales at Not Less Than Fair Value: Polyethylene Terephthalate Film, Sheet, and Strip from Thailand, 73 FR 24565 (May 5, 2008) (collectively, “Preliminary Determinations”). The final determinations of the antidumping duty investigations are currently due on July 9, 2008.²

¹ The Department postponed the final determination of the investigation of PET Film from the UAE on May 5, 2008. See Polyethylene Terephthalate Film, Sheet, and Strip from the United Arab Emirates: Preliminary Determination of Sales at Less Than Fair Value and Postponement of Final Determination, 73 FR 24547 (May 5, 2008).

² The Department inadvertently stated in the PRC preliminary determination that it would make its final determination no later than 75 days after the date of publication of the preliminary determination, instead of no later than 75 days after the date of the preliminary determination.

Section 735(a)(2) of the Tariff Act of 1930 (“the Act”) provides that a final determination may be postponed until not later than 135 days after the date of the publication of the preliminary determination if, in the event of an affirmative determination, a request for such postponement is made by exporters who account for a significant proportion of exports of the subject merchandise, or in the event of a negative preliminary determination, a request for such postponement is made by petitioner. In addition, the Department’s regulations, at Section 351.210(e)(2), require that requests by respondents for postponement of a final determination be accompanied by a request for extension of provisional measures from a four-month period to not more than six months. See 19 CFR 351.210(e)(2).

On May 2, 2008, DuPont Teijin Films China Limited, the sole active mandatory respondent in the PRC investigation, along with its affiliates DuPont Teijin Hongji Films Ningbo Co., Ltd., and DuPont-Hongji Films Foshan Co., Ltd., and Terphane Ltda., the sole mandatory respondent in the Brazil investigation, requested extension of the final determinations and extension of the provisional measures.³ Thus, because the preliminary determinations in the PRC and Brazil investigations are affirmative, and the respondents requesting extension of the final determinations and extension of the provisional measures account for significant proportions of exports of the subject merchandise, and no compelling reasons for denial exist, we are extending the due date for the final determination in the PRC and Brazil investigations to no later than 135 days after the date of the publication of the preliminary determination.

³ Terphane Ltda.'s original request did not mention its agreement to the extension of provisional measures, as required by 19 CFR 351.210(e)(2) . However, on May 19, 2008, Terphane Ltda. submitted a letter agreeing to the extension of the provisional measures.

On May 2, 2008, DuPont Teijin Films, Mitsubishi Polyester Film of America, Inc., SKC, Inc. and Toray Plastics (America), Inc. (collectively, “petitioners”), requested an extension of the final determination in the Thailand investigation. Thus, as the request for extension in the Thailand investigation was made by petitioners because the preliminary determination in the Thailand investigation is negative, and no compelling reasons for denial exist, we are extending the due date for the final determination in the Thailand investigation to no later than 135 days after the date of the publication of the preliminary determination.

For the reasons identified above, we are postponing the final determinations in the PRC, Brazil, and Thailand investigations until September 17, 2008.

This notice is issued and published pursuant to sections 777(i) and 735(a)(2) of the Act and 19 CFR 351.210(g).

Dated: May 29, 2008.
David M. Spooner,
Assistant Secretary for Import Administration.

[FR Doc. E8-12612 Filed 6-4-08; 8:45 am]

BILLING CODE 3510-DS-S